DEPARTMENT OF THE TREASURY

United States Mint

Notification of Citizens Coinage Advisory Committee September 23-24, 2014, Public Meeting

SUMMARY: Pursuant to United States Code, Title 31, section 5135(b)(8)(C), the United States Mint announces the Citizens Coinage Advisory Committee (CCAC) public meeting scheduled for September 23-24, 2014.

Date: September 23-24, 2014.

Time: September 23 9:30 a.m. to 4:30 p.m.; September 24 9:00 a.m. to 12:00 p.m.

Location: Conference Rooms B & C, United States Mint, 801 9th Street NW., Washington, DC 20220.

Subject: Review and consideration of candidate designs for the 2015 and 2016 First Spouse Bullion Coin Program, the 2015 and 2016 American Eagle Platinum Bullion Coin Program, and the 2016 America the Beautiful Quarters® Program Coins honoring Shawnee National Forest, Cumberland Gap National Historical Park, Harpers Ferry National Historical Park, Theodore Roosevelt National Park, and Fort Moultrie (Fort Sumter National Monument); review and consideration of additional tribal candidate designs for the Fond du Lac Band of Lake Superior Chippewa Code Talkers Recognition Congressional Medals; review and consideration of candidate designs for the World War II Members of the Civil Air Patrol Congressional Gold Medal; discussion of a proposed art medal program; and discussion of the FY2014 Annual Report.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: William Norton, United States Mint Liaison to the CCAC; 801 9th Street NW., Washington, DC 20220; or call 202-354-7200.

Any member of the public interested in submitting matters for the CCAC's consideration is invited to submit them by fax to the following number: 202-756-6525.

Authority: 31 U.S.C. 5135(b)(8)(C).

Dated: September 5, 2014.
Richard A. Peterson,
Deputy Director, United States Mint.

[FR Doc. 2014-21618 Filed 9-10-14; 8:45 am]

BILLING CODE P